DEPARTMENT OF TRANSPORTATION

Federal Aviation Administration

14 CFR Part 71

[Docket No. FAA-2019-0729; Airspace Docket No. 19-AGL-12]

RIN 2120-AA66

Proposed Amendment of Air Traffic Service (ATS) Routes V-82, V-217, and T-383 in the Vicinity of Baudette, MN

AGENCY: Federal Aviation Administration (FAA), DOT.

ACTION: Notice of proposed rulemaking (NPRM).

SUMMARY: This action proposes to amend two VHF Omnidirectional Range (VOR) Federal airways, V-82 and V-217, and one area navigation (RNAV) route, T-383. The FAA is proposing this action due to the planned decommissioning of the VOR portion of the Baudette VOR/Distance Measuring Equipment (VOR/DME) navigation aid (NAVAID). The Baudette VOR is being decommissioned in support of the FAA's VOR Minimum Operational Network (MON) program.

DATES: Comments must be received on or before November 12, 2019.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2019-0729; Airspace Docket No. 19-AGL-12 at the beginning of your comments. You may also submit comments through the internet at http://www.regulations.gov. FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0729; Airspace Docket No. 19-AGL-12) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0729; Airspace Docket No. 19-AGL-12.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning to decommission the VOR portion of the Baudette, MN (BDE), VOR/DME in May 2020. The Baudette VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the Baudette, MN, VOR/DME NAVAID is planned for decommissioning, the DME portion is being retained with the “BDE” identifier. The ATS routes effected by the Baudette VOR decommissioning are VOR Federal airways V-82 and V-217.

With the planned decommissioning of the Baudette VOR, the remaining ground-based NAVAID coverage in the area is insufficient to enable the continuity of V-82 and V217 within the affected area. As such, proposed modifications to V-82 and V-217 would result in the V-82 airway segment between the Baudette VOR/DME and the intersection of the Baudette VOR/DME 194° radial and the Park Rapids, MN, VOR/DME 003° radial (BLUOX fix) and the V-217 airway segment between the Hibbing, MN, VOR/DME and the Winnipeg, MB, Canada, VOR/Tactical Air Navigation (VORTAC) being removed.

To overcome the removal of the V-82 and V-217 airway segments, the FAA plans to retain the current fixes located along those airway segments to assist pilots and air traffic controllers already familiar with them, for navigation purposes. Additionally, the Baudette, MN, DME facility is planned to be retained and charted in its current location as a DME facility with the “BDE” identifier. Further, the FAA proposes to extend RNAV route T-383 between the BLUOX fix and the Baudette, MN, DME facility to overlay the V-82 routing being removed. Instrument flight rules (IFR) traffic could use the extended T-383 route segment, file point-to-point using the fixes that will remain in place, or receive air traffic control (ATC) radar vectors to continue operating through the affected area. Visual flight rules (VFR) pilots who elect to navigate via the airways through the affected area could also take advantage of the air traffic services previously listed.

The Proposal

The FAA is proposing an amendment to Title 14 Code of Federal Regulations (14 CFR) part 71 to remove VOR Federal airways V-82 and V-217 airway segments and extend RNAV route T-383 to overlay the V-82 routing being removed. The planned decommissioning of the VOR portion of the Baudette, MN, VOR/DME has made this action necessary. The proposed air traffic service (ATS) route actions are described below.

V-82: V-82 currently extends between the Baudette, MN, VOR/DME and the intersection of the Baudette VOR/DME 194° and Park Rapids, MN, VOR/DME 003° radials (BLUOX fix), and between the Gopher, MN, VORTAC and the Dells, WI, VORTAC. The FAA proposes to remove the airway segment between the Baudette VOR/DME and the intersection of the Baudette VOR/DME 194° and Park Rapids, MN, VOR/DME 003° radials. The unaffected portions of the existing airway would remain as charted.

V-217: V-217 currently extends between the intersection of the Madison, WI, VOR/DME 138° and Badger, WI, VOR/DME 193° radials and the Winnipeg, MB, Canada, VORTAC. The airspace within Canada is excluded and the portion of the airway that lies within the Beaver Military Operations Area (MOA) is excluded when the Beaver MOA is active. The FAA proposes to remove the airway segment between the Hibbing, MN, VOR/DME and the Winnipeg, MB, Canada, VORTAC, as well as the exclusion language addressing the airspace within Canada and the Beaver MOA. The unaffected portions of the existing airway would remain as charted.

T-383: T-383 currently extends between the Gopher, MN, VORTAC and the BLUOX, MN, fix. The FAA proposes to extend the route between the BLUOX fix and the Baudette, MN, DME. The unaffected portions of the existing airway would remain as charted.

The NAVAID radials listed in the V-217 airway description below are unchanged and stated in True degrees.

VOR Federal airways are published in paragraph 6010(a) and low altitude RNAV T-routes are published in paragraph 6011 of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-82 [Amended]

From Gopher, MN; Farmington, MN; Rochester, MN; Nodine, MN; to Dells, WI.

* * * * *

V-217 [Amended]

From INT Madison, WI, 138° and Badger, WI, 193° radials; Badger; Green Bay, WI; Rhinelander, WI; Duluth, MN; to Hibbing, MN.

* * * * *

Paragraph 6011 United States Area Navigation Routes.

* * * * *

T-383 Gopher, MN (GEP) to Baudette, MN (BDE) [Amended]
Gopher, MN (GEP) | VORTAC | (Lat.45°08′44.47″ N, long. 093°22′23.45″ W)
BRNRD, MN | WP | (Lat. 46°20′53.81″ N, long. 094°01′33.54″ W)
BLUOX, MN | FIX | (Lat. 47°34′33.13″ N, long. 095°01′29.11″ W)
Baudette, MN (BDE) | DME | (Lat. 48°43′22.07″ N, long. 094°36′26.24″ W)

Issued in Washington, DC, on September 18, 2019.
Scott M. Rosenbloom,
Acting Manager, Airspace Policy Group.

[FR Doc. 2019-20715 Filed 9-24-19; 8:45 am]

BILLING CODE 4910-13-P